DEPARTMENT OF ENERGY

Golden Field Office; Fiscal Year 2001 Broad Based Solicitation for Submission of Financial Assistance Applications Involving Research, Development and Demonstration

AGENCY: Department of Energy.

ACTION: Issuance of the Fiscal Year 2001 Broad Based Solicitation for Submission of Financial Assistance Applications Involving Research, Development and Demonstration.

SUMMARY: The U.S. Department of Energy (DOE) is announcing its intention to issue the Fiscal Year 2001 Broad Based Solicitation for Submission of Financial Assistance Applications Involving Research, Development and Demonstration (herein referred to as Broad Based Solicitation), DE-PS36-01GO90000.

DATES: Supplemental Announcements to the Broad Based Solicitation will be issued throughout the year. Each Supplemental Announcement will contain technology specific information, anticipated programmatic funding levels, any specific eligibility requirements, any specific application instructions, evaluation criteria, any cost sharing requirements, Program Policy Factors, application deadlines, and any other requirements specific to obtaining Financial Assistance Awards.

ADDRESSES: Copies of the Fiscal Year 2001 Broad Based Solicitation, consisting of the first part and all Supplemental Announcements, will be posted on the DOE Golden Field Office Home Page at http://www.golden.doe.gov/businessopportunities.html, under “Solicitations.”

SUPPLEMENTARY INFORMATION: Under this announcement, the U.S. Department of Energy (DOE) is announcing its intention to issue the Fiscal Year 2001 Broad Based Solicitation for Submission of Financial Assistance Applications Involving Research, Development and Demonstration (herein referred to as Broad Based Solicitation), DE-PS36-01GO90000. The Broad Based Solicitation expresses the Department of Energy (DOE), Office of Energy Efficiency and Renewable Energy's (EERE), continuing interest in receiving Applications for Financial Assistance Awards (Grants and Cooperative Agreements) in support of renewable energy and energy efficiency basic research, applied research, cooperative demonstrations, and related activities. The Broad Based Solicitation will consist of two parts: the first part which establishes guidelines and requirements for submitting Applications in response to individual Supplemental Announcements; the second part will consist of individual Supplemental Announcements and will be specific to designated technology areas of interest. These individual Supplemental Announcements will contain technology specific information, anticipated programmatic funding levels, any specific eligibility requirements, any specific application instructions, evaluation criteria, any cost sharing requirements, application deadlines, and any other requirements specific to obtaining Financial Assistance Awards. The Broad Based Solicitation, consisting of the first part and all Supplemental Announcements, will be posted on the DOE Golden Field Office Home Page at http://www.golden.doe.gov/businessopportunities.html, under “Solicitations.”

DOE intends to issue Supplemental Announcements to this document throughout Fiscal Year 2001. Each Supplemental Announcement will be posted on the Golden Field Office Home Page. A notice to release Supplemental Announcements will be published in the Federal Register and, if appropriate, in the Commerce Business Daily or other publications. Any application that is submitted in response to this Broad Based Solicitation must also be in direct response to a specific Supplemental Announcement.

FOR FURTHER INFORMATION CONTACT: All questions concerning the Broad Based Solicitation must be submitted in writing to: Ruth E. Adams, DOE Golden Field Office, 1617 Cole Boulevard, Golden, CO 80401-3393 or transmitted via facsimile to Ruth E. Adams at (303) 275-4788, or electronically to ruth_adams@nrel.gov. Responses to questions will be made by Amendment to this Broad Based Solicitation and posted on the DOE Golden Field Office Home Page. Questions specific to individual Supplemental Announcements should be directed to the point of contact indicated in the Supplemental Announcement, and answers will be posted as Amendments to the Supplemental Announcement on the Golden Field Office Home Page.

Issued in Golden, Colorado, on November 22, 2000.
Jerry L. Zimmer,
Director, Office of Acquisition and Financial Assistance.

[FR Doc. 00-31161 Filed 12-6-00; 8:45 am]

BILLING CODE 6450-01-U